DEPARTMENT OF COMMERCE

International Trade Administration

[A-427-801, A-428-801, A-475-801, A-588-804, A-412-801]

Ball Bearings and Parts Thereof from France, Germany, Italy, Japan, and the United Kingdom; Notice of Extension of Time Limit for Final Results of Antidumping Duty Administrative Reviews

AGENCY: Import Administration, International Trade Administration, Department of Commerce.

ACTION: Notice of Extension of Time Limit for Final Results of Antidumping Duty Administrative Reviews.

EFFECTIVE DATE: August 14, 2002.

SUMMARY: The Department of Commerce is extending the time limit for the final results of the administrative reviews of the antidumping duty orders on ball bearings and parts thereof from France, Germany, Italy, Japan, and the United Kingdom. The reviews covers 40 manufacturers/exporters. The period of review is May 1, 2000, through April 30, 2001.

FOR FURTHER INFORMATION CONTACT: Kristin Case or Mark Ross, AD/CVD Enforcement 3, Import Administration, International Trade Administration, U.S. Department of Commerce, 14th Street and Constitution Avenue, N.W., Washington, D.C. 20230; telephone: (202) 482-3174 or (202) 482-4794, respectively.

SUPPLEMENTARY INFORMATION:

The Applicable Statute

Unless otherwise indicated, all citations to the Tariff Act of 1930, as amended (the Act), are references to the provisions effective January 1, 1995, the effective date of the amendments made to Act by the Uruguay Round Agreements Act.

Extension of Time Limit for Final Results

The Department of Commerce (the Department) published the preliminary results of these administrative reviews on April 10, 2002 (67 FR 17361). The deadline for completing the final results of these reviews is August 8, 2002. Under section 751(a)(3)(A) of the Act, the Department may extend the deadline for completion of an administrative review if it determines that it is not practicable to complete the review within the statutory time limit. Due to the complexity of the issues and the large number of companies involved in these reviews, the Department determines that it is not practicable to complete the final results of these administrative reviews within the statutory time limit. Therefore, the Department is extending the time limit for the final results of these administrative reviews by 15 days to August 23, 2002.

Dated: August 7, 2002.
Richard W. Moreland,
Deputy Assistant Secretary for Import Administration.

[FR Doc. 02-20562 Filed 8-13-02; 8:45 am]

BILLING CODE 3510-DS-S